DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment 3/4/2010 Through 3/22/2010
Firm | Address | Date accepted for filing | Products
Hollywood Bed & Spring Mfg. Co., Inc | 5959 Corvette Street, Commerce, CA 90040 | 3/4/2010 | Manufacturing of Bedding Support Products, Bed Frames, Bed Rails, Rollaway Beds, Daybed Hardware.
Charcoal Spring Corp. d/b/a Filter Pro | 811 Main Street, P.O. Box , East Lynne, MO 64743 | 3/5/2010 | Air, Liquid and compressor filters manufactured and reconditioned.
Fixture Hardware Manufacturing Corp | 4116 First Avenue, Brooklyn, NY 11232 | 3/9/2010 | Full line of steel display hardware including: Brackets, Standards, Slotted tubing, Pilaster strips, Recessed and Concealed standards (T-Standards), and perimeter hardware.
Jay Industries, Inc | 150 E. Longview, Mansfield, OH 44903-4206 | 3/9/2010 | Seating frames and other plastic components and fabricated metal parts.
Openings d/b/a Total Door | 6145 Delfield Drive, Waterford, MI 48342 | 3/9/2010 | Complete door systems tailored to special needs of various markets.
Trek, Inc | 11601 Maple Ridge Road, Medina, NY 14103 | 3/9/2010 | Voltmeters, field meters, power supplies and high voltage amplifiers.
C&L Aluminum Foundry, Inc | 3024 S. Main, Fort Worth, TX 76110 | 3/10/2010 | Custom aluminum casting for heavy industry.
Consumer Interstate Corporation | 2 Consumers Avenue, Norwich, CT 06360 | 3/10/2010 | Industrial and business supplies including: janitorial, safety, shipping and packaging, office furniture and supplies, printed forms, and food service.
Innovative Composite Engineering Inc | P.O. Box 1218, White, WA 98672 | 3/11/2010 | ICE specializes in the engineering and fabrication of composite (carbon fiber and fiberglass) parts utilizing pre-impregnated carbon fiber materials.
Jarvis Cutting Tools, Inc | 100 Jarvis Avenue, Rochester, NH 03868 | 3/11/2010 | Manufactures exotic metal cutting machine tools including explosives.
Ktech Engineering, Inc | 389 N Industrial Rd., St. George, UT 84770 | 3/11/2010 | Parts of Engines and Motors, primarily used in the aerospace industry. Final assembly of components and testing of motor assembly and electronics.
Aero Metals, Inc | 1201 E. Lincolnway, LaPorte, IN 46350 | 3/15/2010 | Investment cast components from ferrous and non-ferrous metals.
Bentonville International Group, Inc | 1401 South Walton Blvd., Bentonville, AR 72712 | 3/15/2010 | RFID Systems Integration Services.
Lifetime Products, Inc | Freeport Center Bldg, D-11, Clearfield, UT 84016 | 3/15/2010 | Folding tables and chairs, basketball hoops, outdoor sheds and utility trailers.
Marlin Steel Wire Products, LLC | 2640 Merchant Drive, Baltimore, MD 21230 | 3/15/2010 | Marlin Steel Wire manufactures stainless steel, wire, and metal baskets wire forms and hooks.
Tamarack Mills LLC, d/b/a Evergreen Forest d/b/a Clearwater Forest Industries | Highway 12, P.O. Box 340, Kooskia, ID 83539 | 3/15/2010 | Coniferous lumber, both boards (1x4 through 1x12) and dimensional (2x4 through 2x12).
Bioscience, Inc | 966 Postal Road, Ste 200, Allentown, PA 18109 | 3/16/2010 | Water testing kits and chemicals.
Power Technology, Inc | P.O. Box 19117, Little Rock, AR 72219-1117 | 3/16/2010 | Laser Diode products.
American Pride Fasteners, LLC | 195 South Fehr Way, Bayshore, NY 11706 | 3/19/2010 | Manufacture of miniature fasteners and specialty parts of miniature fasteners.
Abbott Action, Inc | 10 Campanelli Circle, Canton, MA 02021 | 3/22/2010 | Corrugated packaging, Point of purchase corrugated displays and foam packaging.
Helio Precision Products | 601 North Skokie Highway, Lake Bluff, IL 60044 | 3/22/2010 | Close-tolerance, complex, heavy duty diesel engine and transmission components and assemblies.
Mandeville Signs, Inc | 676 George Washington, Lincoln, RI 02865 | 3/22/2010 | Electrical signs primarily from aluminum and acrylic with internal illumination via neon, LED or fluorescent tubes.
Package Printing Company, Inc | 33 Myron Street, West, MA 01089 | 3/22/2010 | PPCI manufactures printed packaging. They print primarily on 70 gauge (OPP) Polypropylene rolls, 48 gauge Polyester rolls and 1.5-2.5 ml. Polyethylene rolls.
RES Manufacturing Company | 7801 N 73rd Street, Milwaukee, WI 53223 | 3/22/2010 | Custom stamped metal parts and components.
R.F. Hunter Company, Inc | 113 Crosby Road, Suite 9, Dover, NH 03820 | 3/22/2010 | Filter equipment for edible oils. Sheet metal parts of stainless steel are formed and then nickel plated.
Salamander Designs | 811 Blue Hills Ave., Bloomfield, CT 06002 | 3/22/2010 | Salamander Designs sells modular furniture systems specially engineered to support audio and video equipment.
Sturman Industries | 1 Innovation Way, Woodland, Park CO 80863 | 3/22/2010 | The company manufactures high-tech components for engines and provides related engineering services.
Tastex Corporation | 467-469 Roosevelt Avenue, Central Falls, RI 02863 | 3/22/2010 | Tastex manufacturers air-jet, textured yarn using man-made fibers, nylon, polyester, polypropylene, etc.
UEMC, Inc | 4343 W. Commerce Street, San Antonio, TX 78237 | 3/22/2010 | Unisex apparel manufacture.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: March 22, 2010.
Bryan Borlik,
Program Director.

[FR Doc. 2010-6709 Filed 3-25-10; 8:45 am]

BILLING CODE 3510-24-P